DEPARTMENT OF THE INTERIOR

Bureau of Land Management

[LLAK930000.L13100000.EI0000.241A]

Notice of the 2016 Oil and Gas Lease Sale in the National Petroleum Reserve in Alaska and Notice of Availability of the Detailed Statement of Sale for the 2016 Oil and Gas Lease Sale in the National Petroleum Reserve in Alaska

AGENCY: Bureau of Land Management, Department of the Interior.

ACTION: Notice.

SUMMARY: The Bureau of Land Management's (BLM) Alaska State Office hereby notifies the public that it will hold an oil and gas lease sale bid opening for tracts in the National Petroleum Reserve in Alaska. The United States reserves the right to withdraw any tract from this sale prior to issuance of a written acceptance of a bid.

DATES: The sealed oil and gas lease sale bid opening will be held at 1 p.m. on Wednesday, December 14, 2016. Sealed bids must be received by 4:00 p.m., Monday, December 12, 2016.

ADDRESSES: The oil and gas lease sale bids will be opened at the Anchorage Federal Building, Denali Room (fourth floor), 222 West 7th Avenue, Anchorage, AK. Sealed bids must be sent to Carol Taylor (AK932), BLM-Alaska State Office, 222 West 7th Avenue #13, Anchorage, AK 99513-7504.

FOR FURTHER INFORMATION CONTACT: Wayne Svejnoha, 907-271-4407. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: The Bureau of Land Management's (BLM) Alaska State Office, under the authority of 43 CFR 3131.4-1(a), hereby notifies the public it will hold an oil and gas lease sale bid opening for tracts in the National Petroleum Reserve in Alaska. All bids must be submitted by sealed bid in accordance with the provisions identified in the Detailed Statement of Sale. The bids must be received at the BLM-Alaska State Office, ATTN: Carol Taylor (AK932), 222 West 7th Avenue #13, Anchorage, AK 99513-7504, no later than 4:00 p.m. on Monday, December 12, 2016.

The Detailed Statement of Sale for the 2016 Oil and Gas Lease Sale in the National Petroleum Reserve in Alaska may be obtained from the BLM-Alaska Web site at www.blm.gov/ak, or by request from the Public Information Center, BLM-Alaska State Office, 222 West 7th Avenue #13, Anchorage, AK 99513-7504, telephone 907-271-5960.

The Detailed Statement of Sale will include a description of the tracts to be offered for lease on December 14, 2016, the lease terms, conditions, special stipulations, required operating procedures, and how and where to submit bids for the lease tracts offered.

Authority: 43 CFR 3131.4-1 and 43 U.S.C. 1733 and 1740.

Ted A. Murphy,
Associate State Director.

[FR Doc. 2016-27059 Filed 11-8-16; 8:45 am]

BILLING CODE 4310-JA-P